ENVIRONMENTAL PROTECTION AGENCY

[FRL-9475-8]

New York State Prohibition of Discharges of Vessel Sewage; Receipt of Petition and Tentative Affirmative Determination

AGENCY: Environmental Protection Agency (EPA).

ACTION: Notice—Receipt of Petition and Tentative Affirmative Determination.

SUMMARY: Notice is hereby given that, pursuant to Clean Water Act, Section 312(f)(3) (33 U.S.C. 1322(f)(3)), the State of New York has determined that the protection and enhancement of the quality of the New York State portions of Lake Ontario requires greater environmental protection, and has petitioned the United States Environmental Protection Agency (EPA), Region 2, for a determination that adequate facilities for the safe and sanitary removal and treatment of sewage from all vessels are reasonably available for those waters, so that the State may completely prohibit the discharge from all vessels of any sewage, whether treated or not, into such waters.

New York State (NYS or State) has proposed to establish a Vessel Waste No Discharge Zone (NDZ) for the New York State portion of Lake Ontario including the waters of the Lake within the New York State boundary, stretching from the Niagara River (including the Niagara River up to Niagara Falls) in the west, to Tibbetts Point at the Lake's outlet to the Saint Lawrence River in the east. The proposed No Discharge Zone encompasses approximately 3,675 square miles and 326 linear shoreline miles, including the navigable portions of the Lower Genesee, Oswego, Black Rivers and numerous other tributaries and harbors, embayments of the Lake including Irondequoit Bay, Sodus Bay, North/South Ponds, Henderson Bay, Black River Bay and Chautmont Bay, and abundance of formally designated habitats and waterways of local, state, and national significance.

DATES: Comments regarding this tentative determination are due by November 4, 2011.

ADDRESSES: You may submit comments by any of the following methods:

• E-mail: chang.moses@epa.gov. Include “Comments on Tentative Affirmative Decision for NYS Lake Ontario NDZ” in the subject line of the message.

• Fax: 212-637-3891

• Mail and Hand Delivery/Courier: Moses Chang, U.S. EPA Region 2, 290 Broadway, 24th Floor, New York, NY 10007-1866. Deliveries are only accepted during the Regional Office's normal hours of operation (8 a.m. to 5 p.m., Monday through Friday, excluding Federal holidays), and special arrangements should be made for deliveries of boxed information.

FOR FURTHER INFORMATION CONTACT: Moses Chang, (212) 637-3867, e-mail address: chang.moses@epa.gov. The EPA Region 2 NDZ Web site is: http://www.epa.gov/region02/water/ndz/index.html. A copy of the State's NDZ petition can be found there.

SUPPLEMENTARY INFORMATION: Notice is hereby given that the State of New York (NYS or State) has petitioned the United States Environmental Protection Agency, Region 2, (EPA) pursuant to section 312(f)(3) of Public Law 92-500 as amended by Public Law 95-217 and Public Law 100-4, that adequate facilities for the safe and sanitary removal and treatment of sewage from all vessels are reasonably available for the NYS portion of Lake Ontario. Adequate pumpout facilities are defined as one pumpout station for every 300—600 boats pursuant to the Clean Vessel Act: Pumpout Station and Dump Station Technical Guidelines (Federal Register, Vol. 59, No. 47, March 10, 1994).

As one of the nation's premier waterbodies, the open waters, harbors, embayments, creeks and wetlands of Lake Ontario support a remarkable diversity of uses—fish spawning areas, breeding grounds, valuable habitats, commercial and recreational boating, and a profusion of recreational resources. The Lake serves as an economic engine for the region and a place of great natural beauty, heavily used and enjoyed by the citizens of the many lakeshore communities and throughout the Lake Ontario Watershed, which encompasses about one-quarter of New York State. It is also a source of drinking water for 760,000 people. The New York State Department of Environmental Conservation (DEC) developed this petition in collaboration with New York State Department of State (DOS) and the New York State Environmental Facilities Corporation (EFC) in order to establish a vessel waste No Discharge Zone (NDZ) on the open waters, tributaries, harbors and embayments New York State's portion of Lake Ontario.

In 1987, the governments of Canada and the United States made a commitment, under the Great Lakes Water Quality Agreement (GLWQA), to develop a Lakewide Management Plan (LaMP) for each of the five Great Lakes. This commitment was adopted into Federal law as part of the 1987 amendments to the U.S. Federal Water Pollution Control Act (33 U.S.C. 1268). The Lake Ontario LaMP is a binational, cooperative effort to restore and protect the health of Lake Ontario by reducing chemical pollutants entering the lake and addressing the needs of fish and wildlife living in the watershed.

Virtually all of the waters of Lake Ontario are classified by New York State as Class A. As such, the best usages of these waters are as “a source of water supply for drinking, food processing purposes; primary and secondary contact recreation; and fishing.” Furthermore, this classification states that such waters, if subjected to treatment typical of and appropriate for water supply use, will meet New York State Department of Health (DOH) drinking water standards and are or will be considered safe and satisfactory for drinking water purposes.

Currently there are ten municipal water supplies that draw water from Lake Ontario, serving over 760,000 people in New York State. But the Lake's significance as a water supply goes beyond its current use. As part of the Great Lakes System, Lake Ontario is one component of a reservoir that contains 95 percent of the fresh surface water in the United States and is the largest single reservoir on earth. As such, the importance of protecting this water source cannot be overstated.

The Clean Vessel Act requires that one pumpout station be available for every 300—600 boats in order to support a No Discharge Zone Determination. Accordingly, for EPA to determine that adequate facilities for the safe and sanitary removal and treatment of sewage from all vessels are reasonably available for the New York State portion of Lake Ontario, the State must demonstrate that the pumpout-to-vessel ratio meets the requirement. In its petition, the State described the recreational and commercial vessels that use Lake Ontario, and the pumpout facilities that are available for their use.

Based on recreational boater registrations obtained through the New York State Office of Parks, Recreation and Historic Preservation's 2009 Boating Report for the counties of Niagara, Orleans, Monroe, Wayne, Cayuga, Oswego and Jefferson (all of which have shoreline on Lake Ontario), a general estimate places the recreational vessel population at 10,050.

There are 28 pumpout facilities funded by the Clean Vessel Assistance Program (CVAP) in the relevant areas of the Lake. There are also 9 other (non-CVAP funded) pumpouts available for recreational and small commercial vessels for a total 37 facilities. These facilities either discharge to a holding tank, to a municipal wastewater treatment plant or to an on-site septic system. With 37 pumpouts available for the 10,050 recreational and small commercial vessels that use the lake, the pumpout-to-vessel ratio for those vessels is 1:272 (37:10,050). Because 7 of the nine non-CVAP funded pumpout facilities did not provide sufficient facility information in this petition we also evaluated the vessel to pumpout ratio using a more conservative total of 30 pumpout facilities for 10,050 boats yielding a 1:335 pumpout per vessel ratio. (Note: These are the 30 pumpout facilities identified in the table below.) Based on NYS 2009 boater registrations, the pumpout facility ratios for each individual county are as follows: Orleans (1:138), Jefferson (1:193), Niagara (1:223), Oswego (1:231), Wayne (1:234), Cayuga (1:252), and Monroe (1:449). Therefore, adequate pumpout facilities for the safe and sanitary removal and treatment of sewage for recreational vessels are reasonably available for the New York portions of the lake as a whole and for each county on the lake along the Lake Ontario shore line.

In addition, Lake Ontario is used by commercial vessels. Commercial vessel populations were estimated using data from the National Ballast Information Clearinghouse (NBIC), which records ballast water discharge reports for arriving ships, and interviews with administrators involved with the two main commercial ports on Lake Ontario, Oswego and Rochester.

In the calendar year 2010, ballast manifests showed 73 vessel arrivals at the Port of Oswego, 43 of these ships were bulkers carrying a wide array of goods, such as petroleum, aluminum and salt. The other 30 ships consist of passenger ships, tugs and barges. During 2010 survey, ballast manifests showed 24 commercial vessels arriving at the Port of Rochester, one passenger ship and 23 bulkers. As with the Port of Oswego, all other commercial vessels in the Port of Rochester are transient. Summing these sources, an upper bound estimate of commercial boat traffic in Lake Ontario using New York ports is approximately 150 vessels a year, less than one every other day. Although there are no fixed commercial vessel pumpouts at the Ports of Oswego or Rochester, mobile pumpout services are available for hire. The Port of Rochester reported that “honey dipper” trucks have come in to pumpout commercial vessels on occasion while they are docked in the Port. The Port of Rochester supplies all commercial vessels with the names of pumpout trucks (as well as other services, such as solid waste handlers) at the time they receive their permits to dock at the terminal. Therefore, it appears that there are adequate pumpout facilities to serve the commercial vessels in Lake Ontario.

Based on the above information which supports that adequate facilities for the safe and sanitary removal and treatment of sewage from all vessels are reasonably available for the Lake Ontario, the State may completely prohibit the discharge from all vessels of any sewage, whether treated or not, into such waters.

A list of the pumpout facilities, phone numbers, locations, hours of operation, water depth and fee is provided as follows:

List of Pumpouts in the Lake Ontario NDZ Proposed Area
Number | Name | Location | Contact information | Days and hours of operation | Water depth (feet) | Fee
1 | Youngstown Yacht Club | Lower Niagara River | 716-754-8245 | Apr-Nov, Mon-Fri, 9 a.m.-5 p.m. | 9′-12′ | $5.00
2 | NYSOPRSHP-Wilson-Tuscarora SP Marina | Tuscarora Bay | 716-278-1775 | 24 hours | 5′ | $5.00
3 | Tuscarora Yacht Club | Tuscarora Bay | 716-434-4475 | 9 a.m.-5 p.m. | 7′ | $5.00
4 | Rochester Yacht Club | Genesee River/Lake Ontario | 585-342-5511/585-314-6460 | Mon-Sun, 7 a.m.-10p.m. | 9′ | ¹
5 | City of Rochester—River Street Waterfront | Genesee River—Canal North to 490 Dam | 716-428-7045 | Jan-Dec, 24 hours | 4′-6′ | 0.00
6 | County of Monroe—Irondequoit Bay NYS Marine | Irondequoit Bay | 716-428-5301 | Apr-Oct, 7 a.m.-7 p.m. | 8′ | $5.00
7 | Four C'S Marina at Oak Orchard Creek | Oak Orchard Creek | 585-682-4224 | 6 a.m.-7 p.m. | 10′ | $5.00
8 | Eagle Creek Marina | Oak Orchard Creek | 585-723-5708 | 8 a.m.-5 p.m. | 8′-9′ | $5.00
9 | Braddock Marina | Braddock Bay | 585-227-1579 | 10 a.m.-4 p.m. | 2′ | $8.00
10 | Newport Marina, Inc. | Irondequoit Bay | 585-544-4950 | Mar-Dec, 9 a.m.-6 p.m. | 6′ | $10.00
11 | Sutter's Marine, Inc. | Irondequoit Bay | 716-217-8811 | Apr-Nov, Mon-Fri, 6:30 a.m.-5:00 p.m. | 7′ | $5.00
12 | Pultneyville Yacht Club | Pultneyville | 315-524-2762 | Apr-Sep, 24 hours | 6′ | $5.00
13 | Sodus Bay Yacht Club | Pultneyville | 315-483-9550 | Apr-Sep, 24 hours | 6′ | $5.00
14 | Krenzer Marine, Inc. | Sodus Bay | 315-483-8808 | Apr-Nov, 8 a.m.-5 p.m. | 3′-6′ | 0.00
15 | Arney's Marina, Inc. | Sodus Bay | 315-483-9111 | Apr-Oct, 9 a.m.-5 p.m. | 7′ | $5.00
16 | Anchor Resort and Marina | Little Sodus Bay | 315-947-5331 | Apr-Sep, 6 a.m.-6 p.m. | 8′-10′ | $5.00
17 | Bayside Marina | Little Sodus Bay | 315-947-5773 | Apr-Oct, 24 hours | 8′ | $5.00
18 | Port of Oswego—International Marina West | (Erie) Oneida Shore Park Terminal—Three Rivers Port Terminal | 315-343-4503 | Apr-Nov, 7 a.m.-9 p.m. | 15′ | $5.00
19 | Port of Oswego—East Marina | Three Rivers Point Terminal—Lock 8 (Wright's Landing) | 315-343-4503 | Apr-Nov, 7 a.m.-9 p.m. | 18′ | $5.00
20 | Mexico Bay Co. | Mexico Bay—Little Salmon River | 315-963-3221 | Daylight hours |  | $0.00
21 | Wigwam Marina | North Pond | 315-387-3001 | 12 p.m.-4 p.m. | 8′ | $0.00
22 | Seber Shores Marina | North Pond | 315-387-5502 | May-Nov, 9 a.m.-5 p.m. | 8′ | $5.00
23 | Harbor's End, Inc. | Henderson Bay and Harbor | 315-938-5425 | Apr-Nov, 8 a.m.-4:30 p.m. | 4.5′ | $5.00
24 | Henchen Marina | Henderson Bay and Harbor | 315-938-5313 | Apr-Oct, 7 a.m.-8 p.m. | 8′ | $10.00
25 | Harbor View Marina, Inc. | Henderson Bay and Harbor | 315-938-5494 | May-Oct, 8 a.m.-5 p.m. |  | $0.00
26 | Grunerts Marina | Black River Bay | 315-646-2003 |  |  | $0.00
27 | Navy Point Marina | Black River Bay | 315-646-3364 | May-Nov, 8 a.m.-5 p.m. | 10′ | $0.00
28 | Madison Barracks | Black River Bay | 315-646-3374 | May 15-Oct 15, 8 a.m.-6 p.m. | 10′ | $0.00
29 | Kitto's Marina | Chaumont Bay | 315-788-2191 | Apr-Oct, 8 a.m.-7 p.m. | 7′ | $0.00
30 | Chaumont Club | Black River Bay | 315-649-5018 | Apr 15 -Nov, 7 a.m.-5 p.m. | 6.5′-7′ | $0.00
¹ Free—Members/$10.00—Guest.

Based on the information above, EPA hereby proposes to make an affirmative determination that adequate facilities for the safe and sanitary removal and treatment of sewage from all vessels are available for the waters of the New York State portion of Lake Ontario. A 30-day period for public comment has been opened on this matter, and EPA invites any comments relevant to its proposed determination.

Dated: September 27, 2011.
Judith A. Enck,
Regional Administrator, Region 2.

[FR Doc. 2011-25758 Filed 10-4-11; 8:45 am]

BILLING CODE 6560-50-P